DEPARTMENT OF TRANSPORTATION

Federal Aviation Administration

14 CFR Part 39

[Docket No. 2002-NM-247-AD; Amendment 39-14673; AD 2006-14-02]

RIN 2120-AA64

Airworthiness Directives; Airbus Model A330-200 and A330-300 Series Airplanes, and Airbus Model A340-200 and A340-300 Series Airplanes

AGENCY: Federal Aviation Administration, DOT.

ACTION: Final rule.

SUMMARY: This amendment adopts a new airworthiness directive (AD), applicable to certain Airbus Model A330-200 and A330-300 series airplanes; and Airbus Model A340-200 and A340-300 series airplanes. This AD requires lubrication of the upper and lower shortening mechanism (SM) link of the main landing gear, and consequent detection of resistance or blockage of the greaseway. Depending upon the resistance finding and upon whether or not the airplane has a certain modification, this AD also requires various other actions including unblocking the greaseway; accomplishing all necessary repairs; performing various inspections; and accomplishing the eventual replacement of the SM8 pin, if necessary. This action is necessary to prevent failure of the landing gear lengthening system, which could result in reduced controllability of the airplane on the ground during landing. This action is intended to address the identified unsafe condition.

DATES: Effective August 9, 2006.

The incorporation by reference of certain publications listed in the regulations is approved by the Director of the Federal Register as of August 9, 2006.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A330 series airplanes; Airbus Model A340-300 series airplanes; and Airbus Model A340-541 airplanes was published in the Federal Register on April 1, 2004 (69 FR 17088). That action proposed to require lubrication of the upper and lower shortening mechanism (SM) link of the main landing gear, and consequent detection of resistance or blockage of the greaseway. Depending upon the resistance finding and upon whether or not the airplane has a certain modification, that action also proposed to require various other actions including unblocking the greaseway; accomplishing all necessary repairs; performing various inspections; and accomplishing the eventual replacement of the SM8 pin, if necessary.

Comments

Interested persons have been afforded an opportunity to participate in the making of this amendment. Due consideration has been given to the comments received.

Support for the Proposed AD

US Airways expresses support for the proposed AD. Northwest Airlines notes that it does not operate any airplanes affected by the proposed AD.

Request To Remove Certain Airplanes From Applicability

Airbus notes that the applicability of the proposed AD should not include Airbus Model A340-541 airplanes. Airbus states that Model A340-541 airplanes do not have SM8 pins that are affected by the actions in this proposed AD.

We agree. Airbus Model A340-541 airplanes are not included in either the French airworthiness directives or the all-operators telexes (AOTs) that are referenced in the proposed AD. We included the Airbus Model A340-541 inadvertently in our proposed AD. We have revised the final rule to exclude this airplane model.

Request To Revise Compliance Time in Paragraph (e)(1) of the Proposed AD

Airbus also observes that the proposed AD includes in paragraph (e)(1) the requirement to make all necessary repairs and unblock any blocked greaseway “before further flight.” Airbus suggests that we may have misunderstood the intent of the French airworthiness directives and the AOTs, and requests that we change this compliance time to agree with the time in those documents. Instead of “before further flight,” Airbus states that the compliance time should be “within 700 flight hours.”

We agree. We have changed paragraph (e)(1) of the final rule to state that operators should comply with the actions in that paragraph “within 700 flight hours after the general visual inspection” rather than “before further flight.” We have determined that extending the compliance time will not adversely affect safety.

Requests To Revise Compliance Time in Paragraph (e)(2) of the Proposed AD

Air Transportation Association, on behalf of U.S. Airways, expresses concern over the facilities needed to perform the “tall” airplane jacking that must be done to accomplish the SM8 pin replacement. U.S. Airways notes that this jacking procedure must be accomplished indoors and requires equipment and a facility capable of handling the abnormal jacking height. U.S. Airways recommends that we revise paragraph (e)(2) of the proposed AD to allow 180 flight cycles for operators to plan for the pin replacement after a finding in accordance with paragraph (e) of the proposed AD. ATA supports the observation and recommends that we adopt U.S. Airways' recommendation.

We partially agree. We agree with the commenters that a grace period should be added. We disagree with the proposed 180 flight cycles. Instead, we have changed paragraph (e)(2) of the final rule to require that the actions in paragraph (e)(2) be performed “within 20 flight cycles after the general visual inspection” to match the intent of the French airworthiness directives and the AOTs.

Explanation of Further Changes to Applicability

We have revised the applicability of the proposed AD to identify model designations as published in the most recent type certificate data sheet for the affected models.

We also have made minor editorial changes to clarify the applicability and paragraph (b)(1) of this AD, as follows. We changed the phrases “original Airworthiness Certificate” to “original French standard Airworthiness Certificate,” and “Export Certificate of Airworthiness” to “original Export Certificate of Airworthiness. We also removed an unnecessary phrase, “whichever occurs later,” from the applicability. In addition, we revised paragraph (b)(1) of this AD to remove an unnecessary phrase—“whichever occurs first.”

Furthermore, we inadvertently excluded Airbus Model A340-200 series airplanes from the applicability of the NPRM. Both French airworthiness directive 2002-265(B) R2, dated January 8, 2003, and Airbus AOT 323A4189, dated March 26, 2002, are applicable to both A340-200 and A340-300 series airplanes. Since there are no affected A340-200 series airplanes on the U.S. register, we find that this correction does not expand the scope of the NPRM. We have revised the final rule to include the Model A340-200 series airplanes.

Clarification of Editorial Changes to AD

We have clarified paragraphs (b), (c), (e), and (f) of the AD to reference specific paragraphs of the AOT that are necessary for accomplishing the specified actions.

Clarification of Alternative Method of Compliance (AMOC) Paragraph

We have revised this action to clarify the appropriate procedure for notifying the principal inspector before using any approved AMOC on any airplane to which the AMOC applies.

Conclusion

After careful review of the available data, including the comments noted above, we have determined that air safety and the public interest require the adoption of the rule with the changes previously described. We have determined that these changes will neither increase the economic burden on any operator nor increase the scope of the AD.

Cost Impact

We estimate that 9 Model A330 series airplanes of U.S. registry will be affected by this AD, that it will take approximately 1 work hour per airplane to accomplish the proposed lubrication, and that the average labor rate is $65 per work hour. Based on these figures, the cost impact of the AD on U.S. operators is estimated to be $585, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no affected Model A340 airplanes on the U.S. Register. However, if an affected airplane is imported and placed on the U.S. Register in the future, it would take approximately 1 work hour per airplane to accomplish the proposed lubrication at an average labor rate of $65 per work hour. Based on these figures, we estimate the cost of the lubrication required by this AD for these airplanes to be $65 per airplane.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-14-02 Airbus: Amendment 39-14673. Docket 2002-NM-247-AD.

Applicability: Model A330-201, -202, -203, -223, -243, -301, -321, -322, -323, -341, -342, and -343 airplanes; and Model A340-211, -212, -213, -311, -312, and -313 airplanes, certificated in any category; having a date of issuance of the original French standard Airworthiness Certificate or the date of issuance of the original Export Certificate of Airworthiness of May 24, 2002, or earlier.

Compliance: Required as indicated, unless accomplished previously.

To prevent failure of the landing gear lengthening system, which could result in reduced controllability of the airplane on the ground during landing, accomplish the following:

All Operators Telex Reference

(a) The term “all operators telex,” or “AOT,” as used in this AD, means the Short-Term Action section of the following AOTs, as applicable:

(1) For Model A330-201, -202, -203, -223, -243, -301, -321, -322, -323, -341, -342, and -343 airplanes: Airbus A330 AOT 32A3151, dated March 26, 2002; and

(2) For Model A340-211, -212, -213, -311, -312, and -313 airplanes: Airbus A340 AOT 32A4189, dated March 26, 2002.

Lubrication

(b) At the later of the compliance times in paragraphs (b)(1) and (b)(2) of this AD: Lubricate the upper and lower shortening mechanism (SM) link of the main landing gear in accordance with paragraph 4.2.1 of the applicable AOT.

(1) Within 6 months after the date of issuance of the original French standard Airworthiness Certificate or the date of issuance of the original Export Certificate of Airworthiness.

(2) Within 700 flight hours or 60 days after the effective date of this AD, whichever occurs first.

(c) If, during the lubrication required by paragraph (b) of this AD, any corrective actions are required, do paragraph (c)(1) or (c)(2) of this AD, as applicable.

(1) If Airbus Modification 46904 has been accomplished, the corrective actions must be performed in accordance with paragraphs 4.2.2 and 4.3 of the applicable AOT.

(2) If Airbus Modification 46904 has not been accomplished, do the applicable inspection and all necessary corrective actions in accordance with paragraph 4.3 of the applicable AOT.

(d) If, during the lubrication required by paragraph (b) of this AD, there is noticeable resistance or blockage of the greaseway: Before further flight, do the applicable inspection and all necessary corrective actions in paragraphs (e) and (f) of this AD.

Inspections and Corrective Action

(e) For airplanes on which Airbus Modification 46904 has been incorporated that have a discrepant greaseway per paragraph (d) of this AD; and for airplanes on which Airbus Modification 46904 has not been incorporated that do not have a discrepant greaseway: Before further flight following the lubrication required by paragraph (b) of this AD, do a general visual inspection for clearance of the end caps of the SM8 pin, and the presence of the split pin, the nut, the end caps, and the bolts; in accordance with paragraph 4.2.2 of the applicable AOT.

(1) If the combined gap of both end caps to the outer flanges of the bushes in the lower SM is less than 0.75 mm: Within 700 flight hours after the general visual inspection, make all necessary repairs and unblock any blocked greaseway, in accordance with paragraphs 4.2.2 and 4.3 of the applicable AOT.

(2) If the inspection required by paragraph (e) of this AD reveals a migration of the SM8 pin end caps to a gap of 0.75 mm to 3.0 mm: Within 20 flight cycles after the general visual inspection, unblock any blocked greaseway in accordance with paragraph 4.3 of the applicable AOT, and repeat the inspection required by paragraph (e) of this AD at intervals not to exceed 20 flight cycles until the action in paragraph (e)(3) is accomplished.

(3) If the inspection required by paragraph (e) of this AD reveals a migration of the SM8 pin end caps to a gap of 3.0 mm or greater: Before further flight, remove the SM8 pin, and perform a general visual inspection of the SM upper link, SM lower link, and SM8 pin for damage or blockage, and make all necessary repairs before further flight in accordance with paragraph 4.3 of the applicable AOT.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or drop light and may require removal or opening of access panels or doors. Stands, ladders, or platforms may be required to gain proximity to the area being checked.”

Detailed Inspections and Corrective Actions

(f) If no noticeable resistance or blockage of the greaseway is noted during the lubrication required by paragraph (b) of this AD: Within 700 flight hours after the effective date of this AD, do a detailed inspection of the SM8 pin for damage or corrosion; unblock any blocked greaseway; and replace any damaged or corroded pin with a new part; in accordance with paragraph 4.2.2 of the applicable AOT.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

No Reporting Requirements

(g) Although the AOTs referenced in this AD specify to report inspection results to the manufacturer, this AD does not include such a requirement.

Alternative Methods of Compliance

(h)(1) In accordance with 14 CFR 39.19, the Manager, International Branch, ANM-116, Transport Airplane Directorate, FAA, is authorized to approve alternative methods of compliance (AMOCs) for this AD.

(2) Before using any AMOC approved in accordance with § 39.19 on any airplane to which the AMOC applies, notify the appropriate principal inspector in the FAA Flight Standards Certificate Holding District Office.

Note 3: The subject of this AD is addressed in French airworthiness directives 2002-262(B) R1, and 2002-265(B) R2, both dated January 8, 2003.

Incorporation by Reference

(i) Unless otherwise specified in this AD, the actions must be done in accordance with Airbus A330 All Operators Telex 32A3151, dated March 26, 2002; and Airbus A340 All Operators Telex 32A4189, dated March 26, 2002; as applicable. This incorporation by reference was approved by the Director of the Federal Register in accordance with 5 U.S.C. 552(a) and 1 CFR part 51. To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Effective Date

(j) This amendment becomes effective on August 9, 2006.

Issued in Renton, Washington, on June 22, 2006.
Kalene C. Yanamura,
Acting Manager, Transport Airplane Directorate, Aircraft Certification Service.

[FR Doc. 06-5943 Filed 7-3-06; 8:45 am]

BILLING CODE 4910-13-P